DEPARTMENT OF HOMELAND SECURITY

Federal Emergency Management Agency

[Docket ID FEMA-2011-0036]

Recovery Directorate Fact Sheet 9580.213, Residential Electrical Meter Repair—“Power Up”

AGENCY: Federal Emergency Management Agency, DHS.

ACTION: Notice of availability; request for comments.

SUMMARY: The Federal Emergency Management Agency (FEMA) is accepting comments on Recovery Directorate Fact Sheet 9580.213, Residential Electrical Meter Repair—“Power Up.”

DATES: Comments must be received by February 21, 2012.

ADDRESSES: Comments must be identified by docket ID FEMA-2011-0036 and may be submitted by one of the following methods:

Federal eRulemaking Portal: http://www.regulations.gov. Follow the instructions for submitting comments. Please note that this proposed policy is not a rulemaking and the Federal Rulemaking Portal is being utilized only as a mechanism for receiving comments.

Mail: Regulatory Affairs Division, Office of Chief Counsel, Federal Emergency Management Agency, Room 835, 500 C Street SW., Washington, DC 20472-3100.

FOR FURTHER INFORMATION CONTACT: Lu Juana Richardson, Federal Emergency Management Agency, 500 C Street SW., Washington, DC 20472, (202) 646-4014, LuJuana.Richardson@dhs.gov.

SUPPLEMENTARY INFORMATION

I. Public Participation

Instructions: All submissions received must include the agency name and docket ID. Regardless of the method used for submitting comments or material, all submissions will be posted, without change, to the Federal eRulemaking Portal at http://www.regulations.gov, and will include any personal information you provide. Therefore, submitting this information makes it public. You may wish to read the Privacy Act notice, which can be viewed by clicking on the “Privacy Notice” link in the footer of www.regulations.gov.

You may submit your comments and material by the methods specified in the ADDRESSES section above. Please submit your comments and any supporting material by only one means to avoid the receipt and review of duplicate submissions.

Docket: The proposed policy is available in docket ID FEMA-2011-0036. For access to the docket to read background documents or comments received, go to the Federal eRulemaking Portal at http://www.regulations.gov and search for the docket ID. Submitted comments may also be inspected at FEMA, Office of Chief Counsel, Room 835, 500 C Street SW., Washington, DC 20472.

II. Background

Under the authority of the Robert T. Stafford Disaster Relief and Emergency Assistance Act and implementing regulations, FEMA may direct or reimburse activities to save lives, protect property and public health and safety, and lessen or avert the threat of a catastrophe. Under that authority, FEMA may fund the repair of residential electrical meters damaged in a major disaster or emergency, when warranted by the incident and necessary to meet the immediate needs of disaster survivors. “Power Up” is intended to reduce the number of displaced disaster survivors needing shelter and allow for a faster recovery.

FEMA may provide this assistance to State, Tribal and local governments under the Public Assistance (PA) Program in the areas designated by a major disaster or emergency declaration where Individual Assistance (IA) has not been declared by the President. Reimbursement will be at the Federal cost share rate established in the Presidential declaration, which is generally 75%. If IA has been declared by the President, the IA Program will reimburse eligible residential meter repair to avoid any potential duplication of benefits.

FEMA seeks comment on the proposed policy, which is available online at http://www.regulations.gov in docket ID FEMA-2011-0036. Based on the comments received, FEMA may make appropriate revisions to the proposed policy. Although FEMA will consider any comments received in the drafting of the final policy, FEMA will not provide a response-to-comments document. When or if FEMA issues a final policy, FEMA will publish a notice of availability in the Federal Register and make the final policy available at http://www.regulations.gov.

Authority: 42 U.S.C. 5121-5207; 44 CFR part 206.

David J. Kaufman,
Director, Office of Policy and Program Analysis, Federal Emergency Management Agency.

[FR Doc. 2012-931 Filed 1-18-12; 8:45 am]

BILLING CODE 9111-23-P